DEPARTMENT OF TRANSPORTATION

Federal Aviation Administration

14 CFR Part 71

[Airspace Docket No. 01-AWP-26]

Establishment of Class E Airspace; Kayenta, AZ

AGENCY: Federal Aviation Administration (FAA), DOT.

ACTION: Final rule.

SUMMARY: This action establishes a Class E airspace at Kayenta, AZ. The establishment of a Special Area Navigation (RNAV) Global Positing System (GPS) Standard Instrument Approach Procedure (SIAP) RNAV (GPS) Runway (RWY) 02 SIAP, RNAV (GPS) RWY 20 SIAP, and the existence of a Special Non-Directional Radio Beacon (NDB) SIAP at Bedard Field, Kayenta AZ has made action necessary. Additional controlled airspace extending upward from 700 feet or more above the surface of the earth is needed to contain aircraft executing the RNAV (GPS) RWY 02 SIAP, RNAV (GPS) RWY 20 SIAP and NDB SIAP to Bedard Field. The intended effect of this action is to provide adequate controlled airspace for Instrument Flight Rules operations at Bedard Field, Kayenta, AZ.

EFFECTIVE DATE: 0901 UTC February 21, 2002.

FOR FURTHER INFORMATION CONTACT: Jeri Carson, Airspace Specialist, Airspace Branch, AWP-520, Air Traffic Division, Western-Pacific Region, Federal Aviation Administration, 15000 Aviation Boulevard, Lawndale, California 90261, telephone (310) 725-6611.

SUPPLEMENTARY INFORMATION:

History

On November 7, 2001, the FAA proposed to amend 14 CFR part 71 by establishing a Class E airspace area at Kayenta, AZ (66 FR 56258). Additional controlled airspace extending upward from 700 feet or more above the surface is needed to contain aircraft executing the RNAV (GPS) RWY 02 SIAP, RNAV (GPS) RWY 20 SIAP, and a NBD SIAP at Bedard Field, Kayenta, AZ. This action will provide adequate controlled airspace for aircraft executing the RNAV (GPS) RWY 02 SIAP, RNAV (GPS) RWY 20 SIAP, and a NDB SIAP to Bedard Field, Kayenta, AZ.

Interested parties were invited to participate in this rulemaking proceeding by submitting written comments on the proposal to the FAA. No comments to the proposal were received. Class E airspace designations for airspace extending from 700 feet or more above the surface of the earth are published in paragraph 6005 of FAA Order 7400.9J dated August 31, 2001, and effective September 16, 2001, which is incorporated by reference in 14 CFR 71.1. The Class E airspace designation listed in this document will be published subsequently in the Order.

The Rule

This amendment to 14 CFR part 71 establishes a Class E airspace area at Kayenta, CA. The establishment of a Special RNAV (GPS) RWY 02, RNAV (GPS) RWY 20 SIAP has made this action necessary. The effect of this action will provide adequate airspace for aircraft executing the RNAV (GPS) RWY 02, RNAV (GPS) RWY 20, and NDB SIAP at Bedard Field, Kayenta, AZ.

The FAA has determined that this regulation only involves an established body of technical regulations for which frequent and routine amendments are necessary to keep them operationally current. Therefore, this regulation—(1) is not a “significant regulatory action” under Executive Order 128660; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389; 14 CFR 11.69.

§ 71.1 [Amended]

2. The incorporation by reference in 14 CFR 71.1 of the Federal Aviation Administration Order 7400.9J, Airspace Designations and Reporting Points, dated August 31, 2001, and effective September 16, 2001, is amended as follows:

Paragraph 6005 Class E airspace areas extending upward from 700 feet or more above the surface of the earth.

* * * * *

AWP AZ E5 Kayenta, AZ [NEW]

Bedard Field, AZ

(Lat. 36°28′18″N, long. 110°25′05″W)

That airspace extending upward from 700 feet above the surface within a 6.6 mile radius of the Bedard Field, and that airspace within 2.0 miles each side of the 219° bearing from the airport extending from the 6.6 mile radius to 10 miles southwest of Bedard Field, and that airspace within 1.0 mile each side of the 034° bearing from the airport extending from the 6.6 mile radius to 11 miles northeast of Bedard Field.

* * * * *

Issued in Los Angeles, California, on January 8, 2002.
John Clancy,
Manager Air Traffic Division, Western-Pacific Region.

[FR Doc. 02-2539 Filed 1-31-02; 8:45 am]

BILLING CODE 4910-13-M